DEPARTMENT OF AGRICULTURE

Rural Utilities Service

Georgia Transmission Corporation; Notice of Finding of No Significant Impact

AGENCY: Rural Utilities Service, USDA.

ACTION: Notice of finding of no significant impact.

SUMMARY: Notice is hereby given that the Rural Utilities Service (RUS) has made a finding of no significant impact (FONSI) with respect to a request from Georgia Transmission Corporation for assistance from the RUS to finance the construction of a 230/115 kV electric substation in Gwinnett County, Georgia.

FOR FURTHER INFORMATION CONTACT: Bob Quigel, Environmental Protection Specialist, Engineering and Environmental Staff, RUS, Stop 1571, 1400 Independence Avenue, SW., Washington, DC 20250-1571, telephone (202) 720-0468, e-mail at bquigel@rus.usda.gov.

SUPPLEMENTARY INFORMATION: The substation is to be named the Bay Creek Substation. It is to be located just northeast of the intersection of Athatown Road and the Gwinnett County/Walton County line in Gwinnett County, Georgia. The project will require approximately 11 acres of clearing for the substation and transmission line access. The actual fenced area of the substation will be approximately 3.5 acres.

Copies of the FONSI are available for review at, or can be obtained from, RUS at the address provided herein or from Mr. John Lasseter, Georgia Transmission Corporation, 2100 East Exchange Place, Tucker, Georgia 30085-2088, telephone (770) 270-7710. Mr. Lasseter's e-mail address is john.lasseter@gatrans.com.

Dated: October 18, 2001.
Blaine D. Stockton,
Assistant Administrator, Electric Program.

[FR Doc. 01-27714 Filed 11-2-01; 8:45 am]

BILLING CODE 3410-15-P